DEPARTMENT OF THE INTERIOR

Bureau of Land Management

[LLWYR05000.L51100000.GN0000.LVEMK10CW370-WYW-140590]

Notice of Availability of the Final Environmental Impact Statement for the Gas Hills In Situ Recovery Uranium Project, Fremont and Natrona Counties, WY

AGENCY: Bureau of Land Management, Interior.

ACTION: Notice of availability.

SUMMARY: In accordance with the National Environmental Policy Act of 1969, as amended, the Bureau of Land Management (BLM) has prepared a Final Environmental Impact Statement (EIS) for the Gas Hills In Situ Recovery (ISR) Uranium Project and by this notice is announcing a 30-day availability period prior to preparing a Record of Decision (ROD).

DATES: The Gas Hills ISR Uranium Project Final EIS will be available until December 2, 2013.

ADDRESSES: Copies of the Final EIS and other documents pertinent to this proposal may be examined at the following BLM offices:

• Lander Field Office, 1335 Main Street, Lander, WY 82520;

• High Plains District Office, 2987 Prospector Drive, Casper, WY 82604;

• Wind River/Bighorn Basin District Office, 101 South 23rd, Worland, WY 82401; and

• Wyoming State Office, 5353 Yellowstone Road, Cheyenne, WY 82009.

Interested persons may also view and download the documents online at: www.blm.gov/wy/st/en/info/NEPA/documents/lfo/gashills.html.

FOR FURTHER INFORMATION CONTACT: Tom Sunderland, Project Manager, telephone: 307-332-8400; mailing address: 1335 Main Street, Lander, WY 82520; email: Gas_Hills_Uranium_EIS_WY@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Power Resources Inc., a wholly owned subsidiary of Cameco US Holdings, Inc., doing business as Cameco Resources, has filed a Plan of Operations pursuant to 43 CFR subpart 3809 regulations to construct uranium recovery facilities including: Waste water disposal facilities; access roads; pipelines and utility lines; delineation, injection and production wells; and improving one existing and constructing one new equipment-housing satellite facility used in the ISR process. The project would be located in eastern Fremont and western Natrona counties, approximately 45 road miles east of Riverton, Wyoming, and approximately 65 road miles west of Casper, Wyoming.

The boundary of the Gas Hills Project Area (GHPA) encompasses approximately 8,500 acres, including approximately 1,300 acres of surface disturbance from the proposed project. Approximately 15 percent of the surface within the GHPA historically was disturbed by previous mining and exploration activities. This disturbance includes an existing warehouse structure (the Carol Shop) and access road (the AML Road).

If the proposed mining operation is not approved, existing reclamation responsibilities under the No-Action alternative would require Cameco to remove and reclaim the existing disturbance once ongoing exploratory activities are concluded. This reclamation would include a minimum of 26.7 acres for the removal of the Carol Shop. If no other use for the existing 1.8 miles of road were identified, it would be removed and reclaimed, for an additional 10.9 acres. Additional notice-level activities would need to be reclaimed as well for a total of 40.2 acres. Existing reclamation responsibilities and notice-level exploration activities allow the current use of the road and Carol Shop.

The Plan of Operations identifies five production areas, or mine units, with subsurface ore bodies within the Wind River Formation for ISR extraction. Construction, operation, groundwater restoration, and surface reclamation of five mine units would occur during an estimated period of approximately 25 years. At the end of the project, all surface structures would be removed, and all disturbances would be re-contoured and reclaimed. In accordance with Nuclear Regulatory Commission (NRC) regulations, any radiological contaminated wastes, including any processing pipe and equipment as well as solid residue or liners from evaporation ponds, would be removed from the Project Area and disposed.

The Final EIS addresses the direct, indirect and cumulative impacts of the Proposed Action and three alternatives including the No Action Alternative, the Resource Protection Alternative and the BLM-Preferred Alternative.

The Proposed Action Alternative is the project proposed by Cameco as identified by the Plan of Operations, the NRC license application, and the Wyoming Department of Environmental Quality Land Quality Division's (WDEQ-LQD) Mine Permit Application #687.

In January 2004, the NRC approved the amendment of Cameco's license SUA-1548 to include operation of the proposed Gas Hills project as a satellite to the Smith-Ranch Highland facility. The WDEQ-LQD approved Cameco's Mine Permit #687 August 2001. Under the Resource Protection Alternative, the project would utilize the same ISR process occurring over the same time period as the Proposed Action, but modifications to the project would reduce surface disturbance and heavy truck transportation. Modifications would include on-site resin processing to produce slurry, submitting an annual development plan, construction timing constraints, a disturbance offset for an additional satellite facility, enhanced reclamation, and power line burial.

The BLM-Preferred Alternative, developed in response to comments received on the Draft EIS, would utilize the same ISR process over the same time period as the Proposed Action with the addition of several elements designed to reduce environmental impacts. These additions would include annual planning and reporting, site-specific reclamation planning and success criteria, construction timing constraints and additional on-site processing.

The Notice of Intent to prepare an EIS was published in the Federal Register on September 7, 2010 (75 FR 54384). The scoping comments received in response to this Notice were used while preparing the Draft EIS to help in developing alternatives and to identify issues to be analyzed in the impact analysis. The Notice of Availability of the Draft EIS was published in the Federal Register on November 16, 2012 (77 FR 68814). A 45-day public comment period for the Draft EIS was held from November 16, 2012, to December 31, 2012, and then extended by the BLM to January 31, 2013, in response to requests from the public.

Notable changes to the EIS based on comments received include the following:

• Clarify and update the description of specific aspects of the Proposed Action, including evaporation pond use, size and methods to exclude wildlife; disposal methods for waste water and radioactive waste; status and results of exploratory drilling for wastewater disposal wells; and water use and consumption.

• Revise specific aspects of the Project Alternatives, including adding a BLM-Preferred Alternative; eliminating the alternative to reduce the number of evaporation ponds; eliminating burial of overhead power lines from the BLM-Preferred Alternative.

• Revise the air quality analysis to reflect changes to the proponent's transportation plan (i.e., increase in waste hauling trips) and recently updated ambient air quality limits.

• Add newly identified Greater Sage-Grouse lek locations to the impacts analysis.

• Update revegetation rates and success criteria.

• Clarify transportation routes and frequency.

• Clarify permitting through agencies other than the BLM.

• Add a comparative table for Operator-committed Mitigation Measures and BLM-Proposed Mitigation Measures that might be chosen in order to prevent unnecessary or undue degradation.

• Include all comments received on the Draft EIS along with the BLM's responses.

Upon conclusion of the 30-day public availability period following the date EPA publishes the NOA in the Federal Register, BLM will prepare and sign the ROD to announce the BLM's final decision on Cameco's application as described in the Plan of Operations and any project Conditions of Approval. Availability of the ROD will be announced through local media and the project mailing list, and will be posted on the project Web site.

(Authority: 40 CFR 1506.6, 40 CFR 1506.10)

Donald A. Simpson,
State Director, Wyoming.

[FR Doc. 2013-25923 Filed 10-31-13; 8:45 am]

BILLING CODE 4310-22-P